DEPARTMENT OF DEFENSE

Office of the Secretary

[Docket ID DOD-2011-OS-0057]

Privacy Act of 1974; System of Records

AGENCY: Office of the Secretary, DoD.

ACTION: Notice to add a system of records.

SUMMARY: The Office of the Secretary of Defense proposes to add a system of records to its inventory of record systems subject to the Privacy Act of 1974 (5 U.S.C. 552a), as amended.

DATES: This proposed action would be effective without further notice on June 20, 2011 unless comments are received which result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Services, 1155 Defense Pentagon, Washington, DC 20301-1155 or call (703) 588-6830.

SUPPLEMENTARY INFORMATION: The Office of the Secretary of Defense notices for systems of records subject to the Privacy Act of 1974 (5 U.S.C. 552a), as amended, have been published in the Federal Register and are available from the FOR FURTHER INFORMATION CONTACT address.

The proposed system report, as required by 5 U.S.C. 552a(r) of the Privacy Act of 1974, as amended, was submitted on May 11, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: May 15, 2011.
Aaron Siegel,
Alternate OSD Federal Register Liaison Officer, Department of Defense.

DoDEA 30

System name:

DoDEA Travel Orders Processing System (TOPS).

System location:

Department of Defense Education Activity (DoDEA), Human Resources Regional Service Center, Functional Automation & Information Management Section, 4040 North Fairfax Drive, Arlington, VA 22203-1365.

Categories of individuals covered by the system:

DoDEA civilian personnel and/or family members necessary for the completion of travel documentation for employment or relocation as required.

Categories of records in the system:

Traveler's name, Social Security Number (SSN), title/grade, home address, mailing address, retirement code, district name, releasing official station and location, new official duty station and location. Specific trip information to include travel order number, reporting date at new duty station, travel purpose (to include round trip travel for house-hunting), transportation mode, names of dependents traveling, trip cost estimates and supporting documentation. Financial information to include government code/budget information, fund citation, temporary quarters/subsistence expense, household goods shipment commuted rate/government bill of lading, commitment of travel funds, travel related receipts, travel document status information, records of actual payment of travel funds, and other authorized expenses.

Authority for Maintenance of the System:

5 U.S.C. 5701-5702, Travel, Transportation, and Subsistence; Joint Travel Regulation, Volume 2, Chapter 5, Permanent Duty Travel; and E.O. 9307 (SSN), as amended.

Purpose(s):

The Travel Order Processing System will enable DoDEA employees to create travel orders and transportation agreement forms, track the status of their travel orders, and view their completed travel orders.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To Federal and private entities providing travel services for purposes of arranging transportation and lodging for those individuals authorized to travel at government expense on official business.

To banking establishments for the purpose of confirming billing or expense data.

The DoD “Blanket Routine Uses” set forth at the beginning of the Office of the Secretary of Defense (OSD) compilation of systems of records notices also apply to this system.

Policies and practices for storing, retrieving, accessing, retaining, and disposing of records in the system:

Storage:

Electronic storage media.

Retrievability:

Records may be retrieved by name, SSN, district name, fund citation, and travel order number.

Safeguards:

Records are stored in office buildings protected by controlled screening, use of visitor registers, electronic access, and/or locks. Access to records is limited to individuals who are properly screened and cleared on a need-to-know basis in the performance of their official duties. Logon and passwords are used to control access to the systems date, and procedures are in place to deter and detect browsing and unauthorized access. Physical and electronic access are limited to persons responsible for servicing and authorized to use the record system.

Retention and disposal:

Records are maintained for six years and then destroyed.

System manager(s) and address:

Program Director, Department of Defense Education Activity, Human Resources Regional Service Center, 4040 North Fairfax Drive, Arlington, VA 22203-1365.

Notification procedure:

Individuals seeking to determine whether information about themselves is contained in this system of records should address written inquiries to the Privacy Act Officer, Department of Defense Education Activity, 4040 North Fairfax Drive, Arlington, VA 22203-1365.

Requests must include individual's full name, SSN, office or organization where assigned when trip was taken, date(s) of travel, and the address to which a response should be mailed.

Record access procedures:

Individuals seeking access to information about themselves contained in this system of records should address written requests to the DoDEA Freedom of Information Act Requester Service Center, 4040 North Fairfax Drive, Arlington, VA 22203-1365.

Requests must include individual's full name, SSN, office or organization where assigned when trip was taken, dates of travel, the address to which a response or record should be mailed, and the name and number of this system of records notice. The requestor must sign the request letter or a document authorizing another person to access his or her information.

Contesting record procedures:

The OSD rules for accessing records, contesting contents, and appealing initial agency determinations are contained in Office of the Secretary of Defense Administrative Instruction 81; 32 CFR part 311; or may be obtained from the system manager.

Record source categories:

The individual traveler or other authorized DoD personnel engaged in processing travel orders.

Exemptions claimed for the system:

None.

[FR Doc. 2011-12323 Filed 5-18-11; 8:45 am]

BILLING CODE 5001-06-P